DEPARTMENT OF COMMERCE

National Oceanic and Atmospheric Administration

50 CFR Part 300

[I.D. 013004D]

Public Scoping Meetings on the Management of Antarctic Marine Living Resources Within the Area of the Convention on the Conservation of Antarctic Marine Living Resources

AGENCY: National Marine Fisheries Service (NMFS), National Oceanic and Atmospheric Administration (NOAA), Department of Commerce.

ACTION: Notice of intent to prepare a programmatic environmental impact statement (EIS); notice of scoping meetings; request for written comments.

SUMMARY: NMFS announces its intent to prepare an EIS in accordance with the National Environmental Policy Act of 1969 (NEPA) on the Federal management of Antarctic marine living resources (AMLR) pursuant to conservation and management measures adopted by the Commission for the Conservation of Antarctic Marine Living Resources (the Commission or CCAMLR.) NMFS will convene public scoping meetings in Silver Spring, MD, and Long Beach, CA, to solicit comments on AMLR fishery issues and potential management options related to these resources. The scope of the EIS analysis will, among other things, describe activities related to the management, monitoring, and conduct of the fisheries; the ecological relationships between harvested, dependent and related populations of AMLR; the potential impacts to protected species, non-target species, and fish habitat. The scoping meetings will provide for public input on the issues, range of alternatives, and impacts the EIS should consider. Written comments will also be accepted concerning the various management options the EIS should consider.

DATES: Public scoping meetings will be held in Silver Spring, MD, on March 1, 2004, and in Long Beach, CA, on March 3, 2004. Written comments must be submitted by March 22, 2004. See SUPPLEMENTARY INFORMATION for specific dates, times, and locations.

ADDRESSES: Written comments on the issues, range of alternatives, and impacts that should be discussed in the EIS may be sent to Robert Gorrell, Office of Sustainable Fisheries—F/SF3, National Marine Fisheries Service, 1315 East-West Highway, Silver Spring, MD 20910 or via facsimile (fax) at 301-713-1193 and must be received by March 22, 2004. Comments may also be submitted by e-mail. The mailbox address for providing e-mail comments is CCAMLR-Scoping@noaa.gov. Include in the subject line of the e-mail comment the following document identifier: I.D. 013004D, Scoping for CCAMLR.

FOR FURTHER INFORMATION CONTACT: Robert Gorrell, 301-713-2341 Ext. 150.

SUPPLEMENTARY INFORMATION: Under the Antarctic Marine Living Resources Convention Act of 1984 (AMLRCA) (16 U.S.C. 2431 et seq.; see 50 CFR part 300, Subparts A and G), the United States implements the conservation and management decisions of CCAMLR for the harvesting and importation of all AMLR other than whales and seals found within the Area of the Convention on the Conservation of Antarctic Marine Living Resources (the Convention Area). The management of AMLR is vested in the Secretary of Commerce (Secretary). The Secretary is directed by the AMLRCA to consult with the Secretary of State, the agency in which the Coast Guard is operating, and other appropriate departments and agencies of the United States in promulgating regulations implementing the AMLRCA and CCAMLR measures.

NEPA requires preparation of an EIS for major Federal actions significantly impacting the quality of the human environment. Regulations implementing NEPA at 40 CFR 1502.4(b) state: “Environmental impact statements may be prepared, and are sometimes required, for broad Federal actions such as adoption of new agency programs or regulations. Agencies shall prepare statements on broad actions so that they are relevant to policy and are timed to coincide with meaningful points in agency planning and decision making.” NMFS has decided to prepare a programmatic EIS for all activities regulated by the United States pursuant to the conservation and management measures adopted by CCAMLR.

Background

AMLR other than whales and seals in the Convention Area are managed pursuant to the conservation and management decisions of CCAMLR. The Convention Area is the area south of 60° South latitude and between that latitude and the Antarctic Convergence forming part of the Antarctic marine ecosystem. Conservation and management decisions for AMLR within the Convention Area are made by consensus during annual meetings of the Commission created by the Convention. The United States is a contracting party and a member of the Commission. The Commission adopted its first conservation measures during its third annual meeting in 1984.

With respect to the measures adopted by CCAMLR at each of its annual meetings, the Convention provides that if a member of the Commission, within ninety days of the notification of measures adopted by the Commission, notifies the Commission that it is unable to accept any measure, in whole or in part, the measure, shall not, to the extent stated, be binding upon that member of the Commission.

Pursuant to AMLRCA, the Secretary of State, with the concurrence of the Secretary of Commerce and the Director of the National Science Foundation, appoints the U.S. representative to the Commission. The AMLRCA requires the Secretary of State to publish a Federal Register notice of the conservation and other measures adopted annually by the Commission and solicits public comments on those measures.

In 1986, NMFS prepared an environmental assessment (EA) that analyzed the effects on the human environment of the regulations that implemented AMLRCA. In 2000, NMFS prepared an EA that analyzed the effects of CCAMLR's toothfish Catch Documentation Scheme (CDS) on the importation of toothfish into the United States. As a part of that analysis, NMFS looked at the fishery-wide effects on the human environment of the harvesting and trade sectors for toothfish. This analysis was critical to the implementation of the CDS, a scheme developed by CCAMLR to curtail the negative effects on toothfish stocks of illegal, unregulated and unreported fishing for toothfish. In 2003, NMFS prepared an EA that also analyzed the fishery-wide effects on the human environment. The 2003 EA focused on a preapproval process for the importation of toothfish into the United States. The process was created by NMFS to streamline the administration of the CDS and enhance efforts to prevent and discourage unlawful harvest and trade in toothfish.

Each of these EAs led to a finding of no significant impact to the human environment and, thus, no EIS was prepared. However, based on information presented to CCAMLR by its Scientific Committee in the years since 1986, trade tracking and monitoring of toothfish, and an increase in the number of U.S. participants in fisheries in the Convention Area, NMFS intends to prepare an EIS examining the effects of these changes to the fishery on the human environment.

Public Involvement

Public scoping is an early and open process for determining the scope of issues to be addressed. A principle objective of the scoping and public involvement process is to identify possible regulatory alternatives that, with adequate analysis, will delineate critical issues and provide a clear basis for distinguishing between those alternatives and selecting a preferred alternative.

In developing a draft EIS, NMFS seeks public comment for possible alternatives to implement the conservation and management measures adopted by CCAMLR. Those measures include: Compliance and enforcement (including permitting by CCAMLR members); the toothfish catch documentation scheme; gear regulations; data reporting; research and experiments; minimization of incidental mortality; general measures for new and exploratory fisheries; fishing seasons, closed areas and prohibitions of fishing; bycatch limits; and CCAMLR Ecosystem Monitoring and Management sites. Current measures can be found at 50 CFR part 300, Suparts A and G. In addition to developing possible alternatives to these management components of the CCAMLR program, scoping meetings will serve to identify any issues that may improve or otherwise support U.S. participation in CCAMLR. For example, should the United States take stronger measures than those adopted by the Commission to address illegal, unregulated or unreported (IUU) fishing? In summary, public input is sought on possible alternatives to current regulations, on fishery or other issues, and on impacts the EIS should consider with a focus on increased U.S. fishing participation and contemporary scientific information.

After scoping meetings are concluded, NMFS will prepare a Draft Environ- mental Impact Statement (DEIS) and file it with the Environmental Protection Agency (EPA). The EPA will then publish a notice of availability (NOA) for the DEIS in the Federal Register with a 45-day public comment period. After considering all public comments, NMFS will prepare a Final Environmental Impact Statement (FEIS) and file it with the EPA. The EPA will then publish a NOA for the FEIS. At this time NMFS is unaware of the need to change the way in which it implements the conservation and management measures adopted by CCAMLR; however, the NEPA review may cause NMFS to reconsider the need for change.

Dates, Times, and Locations for Public Scoping Meetings

March 1, 2004, 2-4 p.m., Room 2358, SSMC2, 1325 East-West Highway, Silver Spring, MD 20910.

March 3, 2004, 2-5 p.m., Room 3300, Glen Anderson Federal Building, 501 W. Ocean Boulevard, Long Beach, CA 90802.

Special Accommodations

These meetings are physically accessible to people with disabilities. Requests for sign language interpretation or other auxiliary aids should be directed to, in Long Beach, Svein Fougner, Phone 562-980-4040, Fax 562-980-4047 or, in Silver Spring, Robert Gorrell, Phone 301-713-2341 Ext. 150, Fax 301-713-1193 at least five days prior to the meeting date.

Authority: 16 U.S.C. 2431 et seq.

Dated: February 2, 2204.
Bruce C. Morehead,
Acting Director, Office of Sustainable Fisheries, National Marine Fisheries Service.

[FR Doc. 04-2534 Filed 2-4-04; 8:45 am]

BILLING CODE 3510-22-P